CONSUMER PRODUCT SAFETY COMMISSION

Sunshine Act Meetings

Time and Date: Wednesday, October 21, 2009, 9 a.m.-11 a.m. (Morning sessions may carry over into the afternoon).

Place: Hearing Room 420, Bethesda Towers, 4330 East-West Highway, Bethesda, Maryland.

Status: Commission Briefing/Meeting—Open to the Public.

Matters to be Considered:

1. Pending Decisional Matters:

(a) Lab Accreditation Requirements for Lead

(b) Brass Lead Exclusions Petition

(c) Lead Determination Guidance

(d) Recreational Off-Highway Vehicles (ROHVS) ANPR

2. Electronic Devices—Final Rule

A live Webcast of the Briefing can be viewed at http://www.cpsc.gov/webcast/index.html.

For a recorded message containing the latest agenda information, call (301) 504-7948.

Contact Person for More Information: Todd A. Stevenson, Office of the Secretary, U.S. Consumer Product Safety Commission, 4330 East-West Highway, Bethesda, MD 20814, (301) 504-7923.

Dated: October 9, 2009.
Todd A. Stevenson,
Secretary.

[FR Doc. E9-24899 Filed 10-15-09; 8:45 am]

BILLING CODE 6355-01-M